DEPARTMENT OF HEALTH AND HUMAN SERVICES

Centers for Disease Control and Prevention

Advisory Committee on Immunization Practices: Meeting

In accordance with section 10(a)(2) of the Federal Advisory Committee Act (Pub. L. 92-463), the Centers for Disease Control and Prevention (CDC) announces the following committee meeting:

Name: Advisory Committee on Immunization Practices (ACIP) Teleconference.

Time and Date: 12 p.m.-3 p.m., November 8, 2001.

Place: Teleconference call will originate at the Centers for Disease Control and Prevention in Atlanta, Georgia.

Status: Closed.

Purpose: The Committee is charged with advising the Director, CDC, on the appropriate uses of immunizing agents. In addition, under 42 U.S.C. 1396s, the Committee is mandated to establish and periodically review and, as appropriate, revise the list of vaccines for administration to vaccine-eligible children through the Vaccines for Children (VFC) program, along with schedules regarding the appropriate periodicity, dosage, and contraindications applicable to the vaccines.

Matters to be Discussed: The teleconference will convene in closed session from 12:00 p.m. to 3:00 p.m. on November 8, 2001. The purpose of this closed session is to discuss human exposure to B. anthracis spores in humans in the United States. This teleconference will be closed to the public in accordance with provisions set forth in 5 U.S.C. subsections 552b (c)(1), (c)(7) and (c)(9)(B), and the Determination of the Associate Director for Management and Operations, CDC, pursuant to subsection 10(d) of Pub. L. 92-463.

Supplementary information: This conference call is scheduled for 12 p.m. Eastern Standard Time. As provided under 5 U.S.C. 552b(e) and 41 CFR section 102-3.150(b), the public health urgency of this agency business requires that the meeting be held on or prior to the first available date for publication of this notice in the Federal Register.

Due to programmatic issues that had to be resolved, the Federal Register notice is being published less than fifteen days before the date of the meeting.

Contact Person for More Information: Gloria A. Kovach, Program Analyst, Epidemiology and Surveillance Division, National Immunization Program, CDC, 1600 Clifton Road, NE, m/s E61, Atlanta, Georgia 30333. Telephone 404/639-8096.

The Director, Management Analysis and Services office has been delegated the authority to sign Federal Register notices pertaining to announcements of meetings and other committee management activities for both the Centers for Disease Control and Prevention and the Agency for Toxic Substances and Disease Registry.

Dated: November 7, 2001.
John Burckhardt,
Acting Director, Management Analysis and Services Office, Centers for Disease Control and Prevention.

[FR Doc. 01-28434 Filed 11-8-01; 11:55 am]

BILLING CODE 4163-18-P